NATIONAL FOUNDATION ON THE ARTS AND THE HUMANITIES

Sunshine Act Meeting; Meeting of the National Museum Services Board and the National Commission on Libraries and Information Science

AGENCY: Institute of Museum and Library Services & National Commission on Libraries and Information Science.

ACTION: Notice of meeting.

SUMMARY: This notice sets forth the agenda of a forthcoming meeting of the National Museum Services Board and the National Commission on Libraries and Information Science. This notice also describes the function of the boards. Notice of this meeting is required under the Government through the Sunshine Act (Public Law 94-409) and regulations of the Institute of Museum and Library Services, 45 CFR 1180.84.

Time/Date: 2 p.m.-5 p.m. on Thursday, June 27, 2002.

Status: Open.

ADDRESSES: The Hotel Washington, 515 15th Street, NW, Washington, DC. (202) 638-5900.

FOR FURTHER INFORMATION CONTACT: Elizabeth Lyons, Special Assistant to the Director, Institute of Museum and Library Services, 1100 Pennsylvania Avenue, NW, Room 510, Washington, DC 20506. (202) 606-4649.

SUPPLEMENTARY INFORMATION: The National Museum Services Board is established under the Museum Services Act, Title II of the Arts, Humanities, and Cultural Affairs Act of 1976, Public Law 94-462. The Board has responsibility for the general policies with respect to the powers, duties, and authorities vested in the Institute under the Museum Services Act.

The United States National Commission on Libraries and Information Science (NCLIS) is established under Public Law 91-345 as amended, The National Commission on Libraries and Information Science Act. In accordance with section 5(b) of the Act, the commission has the responsibility for advising the Director of the Institute of Museum and Library Services on general policies relating to library services.

The meeting on Thursday, June 27, 2002 will be open to the public. If you need special accommodations due to a disability, please contact: Institute of Museum and Library Services, 1100 Pennsylvania Avenue, NW, Washington, DC 20506—(202) 606-8536—TDD (202) 606-8636 at least seven (7) days prior to the meeting date.

Agenda

6th Annual Meeting of the National Museum Services Board and the National Commission on Libraries and Information Service in The Federal Room of The Hotel Washington, 515 15th Street, NW, Washington, DC, on Thursday, June 27, 2002; 2 p.m.-5 p.m.

I. The Chairs' Welcome and Minutes of the 5th Annual Meeting

II. Director's Welcome and Opening Remarks

III. 21st Century Librarian Initiative

IV. National Leadership Grants: Presentations by Grantees

V. National Award for Museum Service/National Award for Library Service

VI. Old Business:

(1) Budget

(2) MSTA Reauthorization

VII. New Business:

(1) Status of Outcome Evaluations

(2) Update on Minnesota Budget

Dated: June 12, 2002.
Teresa LaHaie,
Administrative Foundation on the Arts and Humanities, Institute of Museum and Library Services.

[FR Doc. 02-15270 Filed 6-13-02; 10:14 am]

BILLING CODE 7036-01-M